DEPARTMENT OF THE INTERIOR

Bureau of Reclamation

[RR01113000, XXXR0680R1, RR.R0336A1R.7WRMP0032]

Notice of Availability of a Draft Environmental Impact Statement and Notice of Public Meetings for the Kachess Drought Relief Pumping Plant and Keechelus Reservoir-to-Kachess Reservoir Conveyance, Kittitas and Yakima Counties, Washington

AGENCY: Bureau of Reclamation, Interior.

ACTION: Notice.

SUMMARY: The Bureau of Reclamation and Washington State Department of Ecology have made available for public review and comment the Kachess Drought Relief Pumping Plant and Keechelus Reservoir-to-Kachess Reservoir Conveyance Draft Environmental Impact Statement (EIS). The Draft EIS describes the potential environmental effects of the No Action Alternative and five action alternatives. The action alternatives examine constructing and operating a pumping plant to access up to 200,000 acre-feet of water in Kachess Reservoir during drought years and conveying it to the Kachess River for irrigation use within the Yakima Project, and constructing and operating a gravity flow tunnel from Keechelus Reservoir to Kachess Reservoir that could convey up to 400 cubic feet of water per second to Kachess Reservoir. The action alternatives include activities to enhance the resiliency of bull trout populations in the Kachess and Keechelus watersheds as well as elsewhere in the Yakima River basin.

DATES: Send written comments on the Draft EIS on or before March 10, 2015.

Two public meetings will be held on the following dates:

1. Tuesday, February 3, 2015, 4:00 p.m. to 7:00 p.m., Ellensburg, WA.

2. Thursday, February 5, 2015, 4:00 p.m. to 7:00 p.m., Cle Elum, WA.

ADDRESSES: Send written comments or requests for copies to Ms. Candace McKinley, Bureau of Reclamation, 1917 Marsh Road, Yakima, WA 98901; or via email to kkbt@usbr.gov. The Draft EIS is also accessible on the following Web sites: http://www.usbr.gov/pn/programs/eis/kdrpp/index.html and http://www.usbr.gov/pn/programs/eis/kkc/index.html.

The public meeting locations are:

1. Ellensburg—Hal Holmes Community Center, 209 N. Ruby Street, Ellensburg, Washington 98926;

2. Cle Elum—U.S. Forest Service, Cle Elum Ranger District, Tom Craven Conference Room, 803 W. 2nd Street, Cle Elum, Washington 98922.

FOR FURTHER INFORMATION CONTACT: Ms. Candace McKinley, 509-575-5848, ext. 603; or by email at kkbt@usbr.gov.

SUPPLEMENTARY INFORMATION: This EIS was previously identified in the Notice of Intent to Prepare an Environmental Impact Statement as “Keechelus Reservoir-to-Kachess Reservoir Conveyance and Kachess Inactive Storage.” The name was changed to better reflect the proposed action evaluated in the EIS.

The Draft EIS documents the potential direct, indirect, and cumulative physical, biological, and socioeconomic environmental effects that may result from the new pumping plant at Kachess Reservoir, water conveyance from Keechelus Reservoir to Kachess Reservoir, and bull trout enhancements within the Yakima River basin.

The Draft EIS evaluates construction and operation of two alternative designs and locations for the Kachess Drought Relief Pumping Plant, including reservoir intakes and tunnels, pumping plants and pump units, pipelines, surge tanks, outlet works, fish screens and barriers, power supply substations, and electric transmission lines. The Draft EIS also evaluates construction and operation of two alternative designs and alignments for the Keechelus-to-Kachess Conveyance, including the Yakima River diversion and intake, the Yakima River-to-Keechelus portal conveyance, fish screens, bored tunnels, discharge structures, spillways and stilling basins, and mechanical buildings. The fifth action alternative evaluates implementation of both the Kachess Drought Relief Pumping Plant and the Keechelus-to-Kachess Conveyance. All action alternatives include several proposals to improve streamflow and habitat functions, eliminate passage barriers, increase abundance, and improve overall resiliency of bull trout populations in the Kachess and Keechelus watersheds.

The objectives of the proposals are to address conditions in the Yakima River basin including: (1) Fish impacts caused by high flows in the upper Yakima River; (2) insufficient capacity of Keechelus Reservoir to fully capture runoff in the Keechelus watershed; (3) currently inaccessible storage in Kachess Reservoir; (4) difficulty in refilling Kachess Reservoir during drought years; and (5) low resiliency of bull trout, an Endangered Species Act-listed species.

The primary study area generally encompasses Kachess Reservoir and its tributaries, Keechelus Reservoir and its tributaries, the Kachess River, the Yakima River between Keechelus Dam and the Easton Diversion Dam near Lake Easton, the South Fork Tieton River, and the electric transmission line route from near Easton to the Kachess Reservoir pumping plant. The extended study area generally includes the Yakima Project vicinity.

Reclamation is conducting feasibility studies for both the Kachess Drought Relief Pumping Plant and the Keechelus-to-Kachess Conveyance. After release of the DEIS for public review and comment, the Final EIS will be prepared and processed with the Final Feasibility Report to support decision making for any related future recommendation, approvals, or authorizations that may result.

Authority

The Kachess and Keechelus reservoirs were authorized on December 12, 1905, by the Secretary of the Interior in connection with the Tieton and Sunnyside Divisions of the Yakima Project. The Secretary was acting under authority of the Reclamation Act of June 17, 1902. The Yakima River Basin Water Enhancement Project was authorized on December 28, 1979 (93 Stat. 1241, Pub. L. 96-162, Feasibility Study—Yakima River Basin Water Enhancement Project). Title XII of the Yavapai-Prescott Indian Tribe Water Rights Settlement Act of 1994 (108 Stat. 4526, Pub. L. 103-434) authorized fish, wildlife, and recreation as additional purposes of the Yakima Project.

Public Review of Draft EIS

Copies of the Draft EIS are available for public review at the following locations:

1. Bureau of Reclamation, Columbia-Cascades Area Office, 1917 Marsh Road, Yakima, Washington 98901.

2. Washington State Department of Ecology, 15 W. Yakima Avenue, Suite 200, Yakima, Washington 98902.

Libraries

1. Carpenter Memorial Library, 302 N Pennsylvania Ave., Cle Elum, WA 98922.

2. Ellensburg Public Library, 209 N. Ruby St., Ellensburg, WA 98926.

3. Roslyn Public Library, 201 S. First St., Roslyn, WA 98941.

4. Benton City Library, 810 Horne Dr., Benton City, WA 99320.

5. Kennewick Library, 1620 S. Union St., Kennewick, WA 99338.

6. Kittitas Public Library, 200 N. Pierce St., Kittitas, WA 98934.

7. Mid-Columbia Library, 405 S. Dayton St., Kennewick, WA 99336.

8. Pasco Library, 1320 W. Hopkins St., Pasco, WA 99301.

9. Prosser Library, 902 7th St., Prosser, WA 99350.

10. Richland Public Library, 955 Northgate Dr., Richland, WA 99352.

11. Sunnyside Public Library, 621 Grant Ave., Sunnyside, WA 98944.

12. Toppenish Library, 1 S. Elm St., Toppenish, WA 98948.

13. Wapato Library, 119 E. 3rd St., Wapato, WA 98951.

14. Washington State Library, Point Plaza East, 6880 Capitol Blvd. SE., Tumwater, WA 98504.

15. West Richland Library, 3803 W. Van Giesen St., Richland, WA 99353.

16. Yakama Nation Library, 100 Spiel-Yi Loop, Toppenish, WA 98948.

17. Yakima Valley Regional Library, 102 N. 3rd St., Yakima, WA 98901.

Special Assistance for Public Meetings

If special assistance is required at the public meetings, please contact Ms. Candace McKinley, at kkbt@usbr.gov or 509-575-5848, ext. 603. Please notify Ms. McKinley as far in advance of the meeting as possible to enable Reclamation to secure the needed services. If a request cannot be honored, the requestor will be notified. TTY users may dial 711 to obtain a toll-free TTY relay.

Public Disclosure

Before including your address, phone number, email address, or other personal identifying information in your comment, you should be aware that your entire comment—including your personal identifying information—may be made publicly available at any time. While you can ask us in your comment to withhold your personal identifying information from public review, we cannot guarantee that we will be able to do so.

Dated: January 5, 2015.
Lorri J. Lee,
Regional Director, Pacific Northwest Region.

[FR Doc. 2015-00153 Filed 1-8-15; 8:45 am]

BILLING CODE 4332-90-P